FEDERAL COMMUNICATIONS COMMISSION

47 CFR Part 73

[DA 08-2257; MB Docket No. 07-226; RM-11406]

Radio Broadcasting Service; Tecopa, CA

AGENCY: Federal Communications Commission.

ACTION: Final rule.

SUMMARY: This Report and Order grants a petition for rulemaking filed by Shamrock Communications, Inc. (“Petitioner”) to allot Channel 288A at Tecopa, California. Petitioner proposed the foregoing channel allotment to maintain a first local service allotment at Tecopa and to accommodate its construction permit application to substitute Channel 290C1 for Channel 291A at Tecopa, and change the community of license from Tecopa, California, to Amargosa Valley, Nevada. Channel 288A can be allotted at Tecopa, California, in compliance with the Commission's technical engineering requirements, at geographical coordinates of 35-50-48 North Latitude and 116-13-24 West Longitude with a site restriction of 0.3 kilometers (0.2 miles) southeast of Tecopa.

DATES: Effective November 24, 2008.

ADDRESSES: Secretary, Federal Communications Commission, 445 Twelfth Street, SW., Washington, DC 20554.

FOR FURTHER INFORMATION CONTACT: R. Barthen Gorman, Media Bureau, (202) 418-2187.

SUPPLEMENTARY INFORMATION: This is a synopsis of the Commission's Report and Order, MB Docket No. 07-226, adopted October 8, 2008, and released October 10, 2008. The full text of this Commission decision is available for inspection and copying during regular business hours at the FCC's Reference Information Center, Portals II, 445 Twelfth Street, SW., Room CY-A257, Washington, DC 20554. The complete text of this decision may also be purchased from the Commission's duplicating contractor, Best Copy and Printing, Inc., 445 12th Street, SW., Room CY-B402, Washington, DC 20554, telephone 1-800-378-3160 or http://www.BCPIWEB.com. The Commission will send a copy of this Report and Order in a report to be sent to Congress and the Government Accountability Office pursuant to the Congressional Review Act, see 5 U.S.C. 801(a)(1)(A).

List of Subjects in 47 CFR Part 73

Radio, Radio broadcasting.

As stated in the preamble, the Federal Communications Commission amends 47 CFR part 73 as follows:

PART 73—RADIO BROADCAST SERVICES

1. The authority citation for part 73 continues to read as follows:

Authority: 47 U.S.C. 154, 303, 334, 336.

§ 73.202 [Amended]

2. Section 73.202(b), the Table of FM Allotments under California, is amended by adding Tecopa, Channel 288A.

Federal Communications Commission.
John A. Karousos,
Assistant Chief, Audio Division, Media Bureau.

[FR Doc. E8-25458 Filed 10-23-08; 8:45 am]

BILLING CODE 6712-01-P